DEPARTMENT OF TRANSPORTATION

Federal Aviation Administration

14 CFR Part 39

[Docket No. 2003-SW-09-AD; Amendment 39-13363; AD 2003-22-15]

RIN 2120-AA64

Airworthiness Directives; Eurocopter France Model SA-365N, N1, AS-365N2, and AS 365 N3 Helicopters

AGENCY: Federal Aviation Administration, DOT.

ACTION: Final rule.

SUMMARY: This amendment adopts a new airworthiness directive (AD) for the specified Eurocopter France (Eurocopter) model helicopters that requires inspecting the fuel air vent hoses (air vent hoses) for chafing and fuel leakage in the interference areas, inspecting the length of the latch support attachment screws, installing spacers to prevent interference with the latch support attachment screws, and removing one tyrap clamp support. This amendment is prompted by a report of a fuel leak in the air vent hose at the 9° frame on the pilot's side of the helicopter. The actions specified by this AD are intended to prevent fuel leakage, toxic fumes inside the cabin creating a fire hazard that could lead to a fire and smoke in the cabin, and subsequent loss of control of the helicopter.

DATES: Effective January 5, 2004.

The incorporation by reference of certain publications listed in the regulations is approved by the Director of the Federal Register as of January 5, 2004.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION: A proposal to amend 14 CFR part 39 to include an AD for the specified model helicopters was published in the Federal Register on July 16, 2003 (68 FR 41972). That action proposed to require, within 50 hours time-in-service (TIS) or 1 month, whichever occurs first, inspecting the fuel air vent hoses for chafing and fuel leakage in the interference areas and replacing leaking air vent hoses. It also proposed to require inspecting the length of the latch support attachment screws on both passenger doors, and if necessary, installing airworthy attachment screws. Finally, the AD proposed to require installing spacers to prevent interference with the latch support attachment screws and the removal of one tyrap clamp support.

The Direction Generale De L'Aviation Civile (DGAC), the airworthiness authority for France, notified the FAA that an unsafe condition may exist on Eurocopter Model AS 365N, N1, N2, and AS 365 N3 helicopters. The DGAC advises of a report of a fuel leak that was discovered on the cabin floor of an aircraft, at the air vent hose, at the 9° frame, on the pilot's side. The fuel leak was caused by interference between the air vent hose and the attachment screws of the latch support of the right-hand front passenger door.

Eurocopter has issued Alert Telex No. 28.00.31, dated January 14, 2003, that describes:

• Checking the condition of the air vent hoses in the interference areas for damage to the external protection of the air vent hoses and fuel leaks, and if leaks are discovered, replacing the hoses and if the external protection is damaged, replacing the hose at 500 hours time-in-service (TIS);

• Protecting the air vent hoses in the interference areas with adhesive tape;

• Checking the attachment screws of the latch support on the right-hand and left-hand sides for correct length;

• On the right-hand side of the aircraft, installing spacers to prevent any interference between the attachment screws of the latch support and the air vent hose; and

• On the left-hand side of the aircraft, removing one of the tyrap clamp supports that secure the air vent hose to the 9° frame at the latch support.

The DGAC classified this alert telex as mandatory and issued AD 2003-028(A), dated February 5, 2003, to ensure the continued airworthiness of these helicopters in France.

Interested persons have been afforded an opportunity to participate in the making of this amendment. No comments were received on the proposal or the FAA's determination of the cost to the public. The FAA has determined that air safety and the public interest require the adoption of the rule as proposed.

The FAA estimates that this AD will affect 45 helicopters of U.S. registry and the actions will take approximately 3 work hours per helicopter to accomplish at an average labor rate of $60 per work hour. Two additional work hours will be required to replace a hose. Required parts will cost approximately:

• $229 for the air vent hose, part number (P/N) 365A55-3044-07 (3 each estimated);

• $139 for the air vent hose, P/N 365A55-3044-09 (3 each estimated);

• $1 for the spacer, P/N E0688-02 (2 each required per helicopter);

• $1 for the screw, P/N 22256BC040012L (4 each per helicopter);

• $1 for the screw, P/N 22256BC050012L (2 each per helicopter); and

• $.50 for the clamp, P/N E0043-1C0 (2 each per helicopter).

Based on these figures, we estimate the total cost impact of the AD on U.S. operators would be $9,609, assuming that six air vent hoses (3 of each kind) will need to be replaced and 2 spacers, 6 screws, and 2 clamps will be replaced in the entire fleet.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-22-15 Eurocopter France: Amendment 39-13363. Docket No. 2003-SW-09-AD.

Applicability: Model SA-365N, N1, AS-365N2, and AS 365 N3 helicopters, certificated in any category.

Compliance: Within the next 50 hours time-in-service (TIS) or 1 month, whichever occurs first, unless accomplished previously.

To prevent fuel leakage, toxic fumes inside the cabin creating a fire hazard that could lead to a fire and smoke in the cabin, and subsequent loss of control of the helicopter, accomplish the following:

(a) In accordance with the Accomplishment Instructions, paragraph 2.B.2. of Eurocopter Alert Telex No. 28.00.31, dated January 14, 2003 (Alert Telex):

(1) Inspect the fuel air vent hose (air vent hose) on the right-hand (RH) and left-hand (LH) side of the helicopter for chafing and fuel leakage in the interference areas.

(i) Replace any leaking air vent hose before further flight, and

(ii) Modify any non-leaking air vent hose by wrapping it with adhesive tape before further flight.

(2) For any air vent hose with chafing damage, replace the air vent hose at the next 500-hour TIS inspection.

(b) Inspect the length of each attachment screw of the latch support on the RH and LH sides and, if the length exceeds 12 mm, replace the attachment screw in accordance with the Accomplishment Instructions, paragraph 2.B.3. of the Alert Telex.

(c) Install spacers for the air vent hose on the RH side between the attachment screws of the latch support and the air vent hose in accordance with the Accomplishment Instructions, paragraph 2.B.4. of the Alert Telex.

(d) Remove one of the tyrap clamp supports from the LH side that secures the air vent hose to the 9° frame at the latch support in accordance with the Accomplishment Instructions, paragraph 2.B.5. of the Alert Telex.

(e) Install latch supports on the RH and LH sides, and the covering panels on the 9° frame in accordance with the Accomplishment Instructions, paragraph 2.B.6. of the Alert Telex.

(f) Inspect the doors for correct closing, and if necessary, adjust the position of the microswitches (if installed) and the latches in accordance with the Accomplishment Instructions, paragraph 2.B.6. of the Alert Telex.

(g) To request a different method of compliance or a different compliance time for this AD, follow the procedures in 14 CFR 39.19. Send the proposal to the Manager, Safety Management Group, FAA. Contact the Safety Management Group for information about previously approved alternative methods of compliance.

(h) The previously stated actions shall be done in accordance with Eurocopter Alert Telex No. 28.00.31, dated January 14, 2003. The Director of the Federal Register approved this incorporation by reference in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(i) This amendment becomes effective on January 5, 2004.

Note: The subject of this AD is addressed in Direction Generale De L'Aviation Civile (France) AD 2003-028(A), dated February 5, 2003.

Issued in Fort Worth, Texas, on October 31, 2003.
Kim Smith,
Acting Manager, Rotorcraft Directorate, Aircraft Certification Service.

[FR Doc. 03-29223 Filed 11-28-03; 8:45 am]

BILLING CODE 4910-13-P